DEPARTMENT OF COMMERCE

National Oceanic and Atmospheric Administration

[I.D. 011005A]

New England Fishery Management Council; Public Meeting

AGENCY: National Marine Fisheries Service (NMFS), National Oceanic and Atmospheric Administration (NOAA), Commerce.

ACTION: Public meeting.

SUMMARY: The New England Fishery Management Council (Council) will hold a three-day Council meeting on February 1-3, 2005, to consider actions affecting New England fisheries in the exclusive economic zone (EEZ).

DATES: The meeting will be held on Tuesday, February 1, 2005, beginning at 9 a.m. and on Wednesday and Thursday, February 2 and 3, beginning at 8:30 a.m.

ADDRESSES: The meeting will be held at the Marriott Courtyard Hotel, 1000 Market Street, Portsmouth, NH 03801; telephone (603) 436-2121. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, February 1, 2005

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Council will review the Skate Plan Development Team's annual report on the status of the Northeast skate complex, in the context of recent management actions. The Scallop Committee report will occur before the lunch break and will include consideration of a modification to the “broken trip” limit rules in the Sea Scallop Fishery Management Plan. The Council will take final action on Framework Adjustment 17 to the FMP, which includes alternatives that would require some or all vessels with general category scallop permits to carry and operate vessel monitoring system equipment.

Wednesday, February 2, 2005

During the Wednesday morning session, the Council will receive a report from its Research Steering Committee concerning 2005 research priorities and recommendations on NOAA Fisheries experimental fishery permit process and related issues. A Groundfish Committee report will follow, to include a schedule for preparation of the next framework adjustment to the Northeast Multispecies FMP, as well as a list of issues to be addressed; consideration of initial action on a measure to remedy the disapproval of the participation of non-sector vessels in the Closed Area I Hook Gear Haddock Special Access Program; discussion of fishing vessel safety issues relative to the Multispecies FMP; and possible action on planning for the 2005 groundfish assessment updates and independent peer review. The status of the monkfish resource will be addressed at a Stock Assessment Public Review Workshop late in the afternoon on Wednesday.

Thursday, February 3, 2005

The morning session will begin with a summary of the January 5 Council Executive Committee meeting. Subjects to be covered will include recommendations for a course of action on the recent groundfish/lobster gear conflict, a draft Council conservation and management strategy (including a policy for Special Access Programs), joint fishery management plans and a briefing on the New England Fleet Visioning Project. The Habitat Committee chairman will provide an update on the EFH Omnibus Amendment #2. Council staff will give a presentation on a pilot project to develop ecosystem approaches to fisheries management. Any other outstanding business will be addressed at the end of the day, following the Bycatch Committee Report. That committee will forward recommendations concerning potential actions to reduce the bycatch of the 2003 year class of haddock in various fisheries.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 10, 2005.
Alan D. Risenhoover,
Acting Director, Office of Sustainable Fisheries, National Marine Fisheries Service.

[FR Doc. E5-121 Filed 1-12-05; 8:45 am]

BILLING CODE 3510-22-S